Title 3—

The President

Proclamation 10008 of April 8, 2020

National Former Prisoner of War Recognition Day, 2020

By the President of the United States of America

A Proclamation

Since our founding, brave men and women who have selflessly answered the call of duty to defend our precious liberty have shaped the fabric of our Nation. In the course of fighting for our freedom and security, many of these heroes have been captured and often subjected to shocking conditions and unimaginable torture. On National Former Prisoner of War Recognition Day, we honor the more than 500,000 American warriors captured while protecting our way of life. We pay tribute to these patriots for their unwavering and unrelenting spirit.

In every major conflict in our Nation's history, American prisoners of war (POWs) have stared down our enemies, knowing at any moment their captors might torture them yet again or even kill them. These patriots, however, knew that they were fighting for something much larger than individual survival. They persevered for the sake of their fellow POWs, comrades in arms, families, and country.

Later this year, we will commemorate the 75th anniversary of the conclusion of World War II. Over the course of the war, nearly 94,000 American troops in the European Theater and an additional 27,000 in the Pacific Theater were captured and held as POWs. Subjected to starvation, lack of medical care, and unimaginable suffering, these Americans endured hell on Earth. The POWs who returned home were forever changed. Many bore the seen and unseen scars and wounds of war, having experienced the worst of humanity.

Though we can never fully understand the depth of their brutal imprisonment and mistreatment, as Americans, it is our duty to ensure all former POWs receive the love, care, compassion, appreciation, and support they deserve. It is our national obligation to remain mindful of the tremendous sacrifices they, their family members, and their loved ones endured over months and years of uncertainty, worry, and heartache. May the stories of these warriors inspire us to live each day with fierce conviction, indomitable will, and everlasting pride for our country.

NOW, THEREFORE, I, DONALD J. TRUMP, President of the United States of America, by virtue of the authority vested in me by the Constitution and the laws of the United States, do hereby proclaim April 9, 2020, as National Former Prisoner of War Recognition Day. I call upon Americans to observe this day by honoring the service and sacrifice of all former prisoners of war and to express our Nation's eternal gratitude for their sacrifice. I also call upon Federal, State, and local government officials and organizations to observe this day with appropriate ceremonies and activities.

IN WITNESS WHEREOF, I have hereunto set my hand this eighth day of April, in the year of our Lord two thousand twenty, and of the Independence of the United States of America the two hundred and forty-fourth.

[FR Doc. 2020-07826

Filed 4-10-20; 8:45 am]

Billing code 3295-F0-P